DEPARTMENT OF COMMERCE

International Trade Administration

[A-580-878]

Certain Corrosion-Resistant Steel Products From the Republic of Korea: Final Results of Antidumping Duty Administrative Review; 2020-2021

AGENCY: Enforcement and Compliance, International Trade Administration, Department of Commerce.

SUMMARY: The U.S. Department of Commerce (Commerce) determines that Dongkuk Steel Mill Co., Ltd. (Dongkuk) and certain companies not selected for individual examination made sales of subject merchandise in the United States at prices below normal value (NV) during the period of review (POR) July 1, 2020, through June 30, 2021. In addition, Commerce determines that Hyundai Steel Company (Hyundai) did not make sales of subject merchandise in the United States at prices below NV during the POR.

DATES: Applicable February 3, 2023.

FOR FURTHER INFORMATION CONTACT: Jaron Moore or William Horn, AD/CVD Operations, Office VIII, Enforcement and Compliance, International Trade Administration, U.S. Department of Commerce, 1401 Constitution Avenue NW, Washington, DC 20230; telephone: (202) 482-3640 or (202) 482-4868, respectively.

SUPPLEMENTARY INFORMATION:

Background

On August 4, 2022, Commerce published the Preliminary Results of the 2020-2021 administrative review of the antidumping duty order on certain corrosion-resistant steel products (CORE) from the Republic of Korea (Korea) and invited interested parties to comment.¹ The administrative review covers eight exporters and/or producers of the subject merchandise,² of which we selected Dongkuk and Hyundai as mandatory respondents.³ For a summary of the events that occurred since the Preliminary Results, see the Issues and Decision Memorandum.⁴ Commerce conducted this review in accordance with section 751(a)(1)(B) of the Tariff Act of 1930, as amended (the Act).

¹ See Certain Corrosion-Resistant Steel Products from the Republic of Korea: Preliminary Results of Antidumping Duty Administrative Review, 2020-2021, 87 FR 47716 (August 4, 2022) (Preliminary Results), and accompanying Preliminary Decision Memorandum.

² See Initiation of Antidumping and Countervailing Duty Administrative Reviews, 86 FR 50034, 50040 (September 7, 2021) (Initiation Notice).

³ See Preliminary Results, 87 FR at 47717.

⁴ See Memorandum, “Issues and Decision Memorandum for the Final Results of the 2020-2021 Antidumping Duty Administrative Review: Certain Corrosion-Resistant Steel Products from the Republic of Korea,” dated concurrently with, and hereby adopted by, this notice (Issues and Decision Memorandum).

Scope of the Order ⁵

⁵ See Certain Corrosion-Resistant Steel Products from India, Italy, the People's Republic of China, the Republic of Korea and Taiwan: Amended Final Affirmative Antidumping Determination for India and Taiwan, and Antidumping Duty Orders, 81 FR 48390 (July 25, 2016) (Order).

The merchandise covered by this Order is CORE from Korea. A full description of the scope of the Order is contained in the Issues and Decision Memorandum.

Analysis of Comments Received

All issues raised by parties in the case and rebuttal briefs are addressed in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Verification

Pursuant to section 782(i) of the Act, and 19 CFR 351.307(b)(v), we conducted verification of the questionnaire responses of Dongkuk and Hyundai.⁶

⁶ See Memorandum, “Verification of the Sales and Cost Responses of Dongkuk Steel Mill Co., Ltd. in the Antidumping Duty Administrative Review of Corrosion-Resistant Steel Products from the Republic of Korea,” dated December 23, 2022; see also Memorandum “Verification of the Sales and Cost Responses of Hyundai Steel Company in the Antidumping Duty Administrative Review of Corrosion-Resistant Steel Products from the Republic of Korea,” dated January 3, 2023.

Changes Since the Preliminary Results

Based on a review of the record and comments received from interested parties regarding our Preliminary Results, we made certain changes to the preliminary weighted-average dumping margin calculations for Dongkuk and Hyundai,⁷ as well as the preliminary weighted-average dumping margin assigned to the companies not selected for individual examination.

⁷ See Issues and Decision Memorandum at Comments 1 through 3.

Rates for Companies Not Selected for Individual Examination

The statute and Commerce's regulations do not address the establishment of a rate to be applied to individual companies not selected for examination when Commerce limits its examination in an administrative review pursuant to section 777A(c)(2) of the Act. Generally, Commerce looks to section 735(c)(5) of the Act, which provides instructions for calculating the all-others rate in an investigation, for guidance when calculating the rate for companies which we did not individually examine in an administrative review. Section 735(c)(5)(A) of the Act establishes a preference to avoid using rates which are zero, de minimis, or based entirely on facts available (FA) in calculating an all-others rate. Accordingly, Commerce's practice in administrative reviews has been to average the weighted-average dumping margins for the companies selected for individual examination in the administrative review, excluding rates that are zero, de minimis, or based entirely on FA.⁸ For these final results of review, we calculated a zero weighted-average dumping margin for Hyundai and a weighted-average dumping margin for Dongkuk that is not zero, de minimis, or based entirely on FA. Therefore, consistent with our practice, we have assigned the companies not selected for individual examination the weighted-average dumping margin calculated for Dongkuk.

⁸ See, e.g., Ball Bearings and Parts Thereof from France, Germany, Italy, Japan, and the United Kingdom: Final Results of Antidumping Duty Administrative Reviews and Rescission of Reviews in Part, 73 FR 52823, 52824

(September 11, 2008), and accompanying Issues and Decision Memorandum at Comment 16.

Final Results of Review

We determine that the following weighted-average dumping margins exist for the period July 1, 2021, through June 30, 2022:

Exporter/producer | Weighted- average dumping margin (percent)
Dongkuk Steel Mill Co., Ltd | 1.79
Hyundai Steel Company | 0.00
KG Steel Corporation/KG Dongbu Steel Co., Ltd.⁹ | 1.79
POSCO | 1.79
POSCO Coated & Color Steel Co., Ltd | 1.79
POSCO International Corporation | 1.79
POSCO Daewoo Corporation ¹⁰ | 1.79

Disclosure

⁹ In a recently completed changed circumstances review, Commerce found that KG Steel Corporation (dba KG Dongbu Steel Co., Ltd.) is the successor-in-interest to KG Dongbu Steel Co., Ltd. for purposes of determining antidumping cash deposits and liabilities. See Certain Cold-Rolled Steel Flat Products and Certain Corrosion-Resistant Steel Products from the Republic of Korea: Final Results of Antidumping and Countervailing Duty Changed Circumstances Reviews, 87 FR 64013 (October 21, 2022); see also Certain Cold-Rolled Steel Flat Products and Certain Corrosion-Resistant Steel Products from the Republic of Korea: Final Results of Antidumping and Countervailing Duty Changed Circumstances Reviews, 86 FR 10922 (February 23, 2021) (determining that KG Dongbu Steel Co., Ltd. was the successor-in-interest to Dongbu Steel Co., Ltd. and Dongbu Incheon Steel Co., Ltd.).

¹⁰ While POSCO requested, and we initiated, a review of “POSCO International Corporation (formerly POSCO Daewoo Corporation)” in this proceeding (see Initiation Notice), we have made no determination that POSCO International Corporation is the successor-in-interest to POSCO Daewoo Corporation. Therefore, we have separately identified these entities for antidumping cash deposit and liability purposes.

Commerce intends to disclose to interested parties the calculations performed in connection with the final results within five days of any public announcement or, if there is no public announcement, within five days of the date of publication of the notice of final results in the Federal Register, in accordance with 19 CFR 351.224(b).

Assessment Rates

Commerce has determined, and U.S. Customs and Border Protection (CBP) shall assess, antidumping duties on all appropriate entries in accordance with section 751(a)(2)(C) of the Act and 19 CFR 351.212(b). Pursuant to 19 CFR 351.212(b)(1), because Dongkuk reported the entered value of its U.S. sales, we calculated importer-specific ad valorem duty assessment rates based on the ratio of the total amount of dumping calculated for the examined sales to the total entered value of the sales for which entered value was reported. Where an importer-specific assessment rate is de minimis (i.e., less than 0.5 percent), the entries by that importer will be liquidated without regard to antidumping duties. Because the final weighted-average dumping margin for Hyundai Steel Company is zero percent, we intend to instruct CBP to liquidate the appropriate entries without regard to antidumping duties.¹¹

¹¹ See Antidumping Proceedings: Calculation of the Weighted-Average Dumping Margin and Assessment Rate in Certain Antidumping Proceedings; Final Modification, 77 FR 8101, 8102 (February 14, 2012).

Consistent with Commerce's clarification of its assessment practice, for entries of subject merchandise during the POR produced by the above-referenced respondents for which they did not know that the merchandise was destined for the United States, we will instruct CBP to liquidate those entries at the all-others rate in the original less-than-fair-value (LTFV) investigation (as amended) ¹² if there is no rate for the intermediate company(ies) involved in the transaction.¹³

¹² See Order; and Certain Corrosion-Resistant Steel Products from the Republic of Korea: Notice of Court Decision Not in Harmony with Final Determination of Investigation and Notice of Amended Final Results, 83 FR 39054 (August 8, 2018) (Timken and Amended Final Results).

¹³ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

The final results of this review shall be the basis for the assessment of antidumping duties on entries of merchandise covered by the final results of this review and for future deposits of estimated duties, where applicable.¹⁴

¹⁴ See section 751(a)(2)(C) of the Act.

Cash Deposit Requirements

The following cash deposit requirements will be effective for all shipments of CORE from Korea entered, or withdrawn from warehouse, for consumption on or after the date of publication of the final results as provided by section 751(a)(2) of the Act: (1) the cash deposit rate for each specific company listed above will be equal to the weighted-average dumping margin established in the final results of the review; (2) for merchandise exported by producers or exporters not covered in this review but covered in a prior completed segment of the proceeding, the cash deposit rate will continue to be the company-specific rate established in the completed segment for the most recent period; (3) if the exporter is not a firm covered in this review or the original LTFV investigation, but the producer is, then the cash deposit rate will be the rate established in the completed segment for the most recent period for the producer of the merchandise; (4) the cash deposit rate for all other producers or exporters will continue to be 8.31 percent, the all-others rate established in the LTFV investigation (as amended) in this proceeding.¹⁵ These cash deposit requirements, when imposed, shall remain in effect until further notice.

¹⁵ See Order, and as amended by Timken and Amended Final Results.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review in accordance with sections 751(a) and 777(i) of the Act, and 19 CFR 351.221(b)(5).

Dated: January 27, 2023.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Whether Dongkuk's Home Market Overrun Sales Are Outside the Ordinary Course of Trade

Comment 2: Whether Commerce Used the Correct Gross Unit Price for Hyundai's U.S. Sales

Comment 3: Whether to Deduct Certain Inland Freight and Other Direct Selling Expenses from Hyundai's Home Market Prices in the Calculation of Normal Value

VI. Recommendation

[FR Doc. 2023-02216 Filed 2-2-23; 8:45 am]

BILLING CODE 3510-DS-P